DEPARTMENT OF THE INTERIOR

National Park Service

[NPS-WASO-NRNHL-0511-7418; 2280-665]

National Register of Historic Places; Notification of Pending Nominations and Related Actions

Nominations for the following properties being considered for listing or related actions in the National Register were received by the National Park Service before May 7, 2011. Pursuant to § 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by June 13, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Drew County

Saline Cemetery, .3 mi. S. of jct. of US 278 & Allis Rd., Wilmar, 11000353

Lawrence County

Bethel Cemetery, 1.1 mi. N. of AR 117 on Cty. Rd. 225, Denton, 11000354

Lonoke County

Keo Commercial Historic District, (Cotton and Rice Farm History and Architecture in the Arkansas Delta MPS) Main & Fleming Sts., AR 232, Keo, 11000355

Searcy County

Martin, William P. and Rosa Lee, Farm, 7429 Campbell Rd., Marshall, 11000356

Sebastian County

Greenwood Gymnasium, (New Deal Recovery Efforts in Arkansas MPS) 300 E. Gary St., Greenwood, 11000357

LOUISIANA

Caddo Parish

First Presbyterian Church, 900 Jordan St., Shreveport, 11000358

MASSACHUSETTS

Franklin County

Franklin County Fairgrounds, 89 Wisdom Way, Greenfield, 11000359

MINNESOTA

St. Louis County

Ingersoll, William, Estate, (Tourism and Recreational Properties in Voyageurs National Park 1880-1950 MPS) Ingersoll's Island, Crane Lake, 11000360

Levin, Adolph, Cottage, (Tourism and Recreational Properties in Voyageurs National Park 1880-1950 MPS) Kabetogama Narrows near Ash R. Maintenance Dock, Kabetogama Lake, 11000361

Monson's Hoist Bay Resort, (Tourism and Recreational Properties in Voyageurs National Park 1880-1950 MPS) Hoist Bay, Namakan Lake, 11000362

Stevens, I.W., Lakeside Cottage, (Tourism and Recreational Properties in Voyageurs National Park 1880-1950 MPS) Williams Island, Namakan Lake, 11000363

OHIO

Clermont County

Krippendorf Estate, 4949 Tealtown Rd., Perintown, 11000364

Cuyahoga County

LaSalle Theater Building, 819-829 E. 185th St., Cleveland, 11000365

Erie County

Huron School, 325 Ohio St., Huron, 11000366

Lorain County

American Felsol Company Building, 200 W. 9th St., Lorain, 11000367

Muskingum County

Christy, Howard Chandler, Art Studio, 6020 S. River Rd., Blue Rock, 11000368

Stark County

Firestone, Charles E., House, 2814 West Dale Rd., NW., Canton, 11000369

Wayne County

Orrville Downtown Historic District, Market St. roughly between High & Main, Orrville, 11000370

SOUTH CAROLINA

Beaufort County

Fort Howell, N. side of Beach City Rd. approx. 200 ft. SW. of the jct. with Dillon Rd., Hilton Head Island, 11000371

Newberry County

Oakland Mill, 2802 Fair Ave., Newberry, 11000372

TENNESSEE

Johnson County

Maymead Farm, 1995 Roan Creek Rd., Mountain City, 11000373

[FR Doc. 2011-13116 Filed 5-26-11; 8:45 am]

BILLING CODE 4312-51-P